UNIFIED CARRIER REGISTRATION PLAN

Sunshine Act Meeting Notice; Unified Carrier Registration Plan Board of Directors Meeting

TIME AND DATE: March 12, 2020, from Noon to 3:00 p.m., Eastern time.

PLACE: This meeting will be accessible via conference call and screen sharing. Any interested person may call 1-866-210-1669, passcode 5253902# to participate in the meeting.

STATUS: This meeting will be open to the public.

MATTERS TO BE CONSIDERED: The Unified Carrier Registration Plan Board of Directors (the “Board”) will continue its work in developing and implementing the Unified Carrier Registration Plan and Agreement. The subject matter of the meeting will include:

Agenda

Open to the Public

I. Welcome and Call To Order—UCR Board Chair

The UCR Board Chair will welcome attendees, call the meeting to order, call roll for the Board, and facilitate self-introductions.

II. Verification of Meeting Notice—UCR Executive Director

The UCR Executive Director will verify the publication of the meeting notice on the UCR website and in the Federal Register.

III. Review and Approval of Board Agenda and Setting of Ground Rules—UCR Board Chair

For Discussion and Possible Action

Agenda will be reviewed and the Board will consider adoption.

Ground Rules

—Board action only to be taken in designated areas on agenda

—Please MUTE your phone

—Please do NOT place the call on HOLD

IV. Approval of Minutes of the January 28, 2020 UCR Board Meeting—UCR Board Chair

For Discussion and Possible Action

• Minutes of the January 28, 2020 Board meeting will be reviewed. The Board will consider action to approve.

V. Report of FMCSA—FMCSA Representative

FMCSA will provide a report on any relevant activity or rulemaking, including any pending appointments.

VI. Ratify Extension of Recommended 2020 Enforcement Date—UCR Chief Legal Officer

For Discussion and Possible Ratification

The UCR Chief Legal Officer will lead a discussion on the proposed ratification of the decision by the UCR Board Chair and the UCR Executive Director to extend the recommended 2020 enforcement date to June 1, 2020. The Board may act to ratify the action of the UCR Board Chair and the UCR Executive Director to extend the recommended enforcement date.

VII. UCR Board Nominations—UCR Executive Director

For Discussion and Possible Action

The Board will consider and may possibly act to adopt a recommendation to the Secretary of the United States Department of Transportation of four nominations to the UCR Board from the FMCSA's four service areas (as those service areas were defined by the FMCSA on January 1, 2005) from among the chief administrative officers of the State agencies responsible for overseeing the administration of the UCR Agreement for terms scheduled to begin June 1, 2020.

VIII. Proposed Adjustments to UCR 2020 Meetings Schedule—UCR Executive Director

For Discussion and Possible Action

The UCR Executive Director will present proposed modifications to the 2020 UCR calendar of meetings, and the Board may act to adopt.

IX. Data Event Update—UCR Chief Legal Officer

The UCR Chief Legal Officer will provide an update to the Board on the action items approved at its August 1, 2019 meeting related to the March 2019 data event.

X. Updates Concerning UCR Legislation—UCR Board Chair

The UCR Board Chair will call for any updates regarding UCR legislation since the last Board meeting.

XI. Subcommittee Reports

Audit Subcommittee—UCR Audit Subcommittee Chair

A. Update on 2020 State Compliance Reviews—UCR Depository Manager

The UCR Depository Manager will provide an update on the plans for the 2020 state compliance review, including a discussion of the planned schedule, so states can expect and plan for the review.

B. 2020 Solicitation Campaigns—Seikosoft

Seikosoft will report on percentage of new entrant motor carrier campaigns managed by the National Registration System (“NRS”), percentage of new entrant motor carrier campaigns managed by the states, percentage of unregistered motor carrier campaigns managed by the NRS, and percentage of unregistered motor carrier campaigns managed by the states.

C. Non-Universe Motor Carrier Solicitation Campaigns—Seikosoft

Seikosoft will report on the solicitation campaign targeting motor carriers identified through roadside inspections to be operating in interstate commerce, but identified in MCMIS as either intrastate or inactive.

D. State Audit Activity to Date—UCR Audit Subcommittee Chair

The UCR Audit Subcommittee Chair will report on state audit activity to date, including percentage of closed Focused Anomalies Reviews (“FARs”) for 2019 and 2020, closed MCS-150 retreats for 2019 and 2020, as well as closed inspections/unregistered carriers for 2019 and 2020.

E. Annual State Reports—UCR Audit Subcommittee Chair

The UCR Audit Subcommittee Chair will report on the need for states to perform their MCS-150 retreat audits in the NRS, review and close their FARs, as well as reporting requirements in the NRS. The UCR Audit Subcommittee Chair will also lead a discussion on the need for states to collect UCR registrations and adjustments for both 2019 and 2020 registration periods as part of their audit investigations through December 31, 2020.

Finance Subcommittee—UCR Finance Subcommittee Chair

A. Proposed Cash Advance Policy—UCR Depository Manager

For Discussion and Possible Action

The Board will review a proposed policy for cash advances from the UCR Depository to state personnel and other applicable stakeholders who are requested to travel for UCR training and other sanctioned events, but who will incur financial hardship if they have to finance the advanced travel costs with their own personal funds. Travelers that have state credit cards or receive advanced funding from their state should not request an advancement of funds from UCR.

B. Certificates of Deposit—UCR Depository Manager

The UCR Depository Manager will provide an update on the reinvestment of funds in CDs based on the previous direction from the Board at the January 2020 meeting.

C. Status of 2020 Registration Year Fee Collections—UCR Depository Manager

The UCR Depository Manager will provide an update on the status of collections for the 2020 registration year and reaffirm the dates for month-end cut-offs, as well as when participating states should expect to receive registration funds from the Depository, when appropriate.

D. January 2020 Operating Costs—UCR Depository Manager

The UCR Depository Manager will provide an update on the year-to-date costs of operating the UCR plan and provide insights into how costs compare with the operating budget.

Education and Training Subcommittee—UCR Education and Training Subcommittee Chair

A. Update on Plans To Launch Training Modules—UCR Education and Training Subcommittee Chair

The UCR Education and Training Subcommittee Chair will provide an update on plans to launch an initial wave of training modules by June 2020.

B. Training Plans for NCSTS Summer Conference—UCR Education and Training Subcommittee Chair

The UCR Education and Training Subcommittee Chair will report on plans to conduct in-person UCR training on June 8, 2020 in Portland, Oregon.

XII. Contractor Reports—UCR Executive Director

• UCR Executive Director

The UCR Executive Director will provide a report covering recent activity for the UCR Program.

• DSL Transportation Services, Inc.

DSL will report on the latest data on state collections based on reporting from the FAR program.

• Seikosoft

Seikosoft will provide an update on recent/new activity related to the NRS.

• UCR Administrator (Kellen)

The UCR Administrator will provide its management report covering recent activity for the Depository, Operations, and Communications.

XIII. Other Business—UCR Board Chair

The UCR Board Chair will call for any business, old or new, from the floor.

XIV. Adjournment—UCR Board Chair

The UCR Board Chair will adjourn the meeting.

This agenda will be available no later than 5:00 p.m. Eastern time, March 4, 2020 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2020-04881 Filed 3-5-20; 4:15 pm]

BILLING CODE 4910-YL-P